DEPARTMENT OF THE TREASURY

Submission for OMB Review; Comment Request

August 15, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 25, 2006 to be assured of consideration.

Internal Revenue Service (IRS)

OMB Number: 1545-0975.

Type of Review: Extension.

Title: Estimated Tax for Corporations.

Forms: 1120-W.

Description: Form 1120-W is used by corporations to figure estimated tax liability and the amount of each installment payment. Form 1120-W is a worksheet only. It is not to be filed with the Internal Revenue Service.

Respondents: Businesses and other for-profit institutions.

Estimated Total Burden Hours: 9,316,190 hours.

OMB Number: 1545-0945.

Type of Review: Extension.

Title: Registration Requirements With Respect to Debt Obligations.

Description: The rule requires an issuer of a registration-required obligation and any person holding the obligation as a nominee or custodian on behalf of another to maintain ownership records in a manner which will permit examination by the IRS in connection with enforcement of the Internal Revenue laws.

Respondents: Business and other for-profit institutions.

Estimated Total Burden Hours: 50,000 hours.

OMB Number: 1545-2013.

Type of Review: Extension.

Title: Transmittal for Certain Corporations Required to e-file.

Form: 8453-T.

Description: Form 8453-T is used if a corporation is required to file 25 or more of certain international forms, not including any required schedules, have a paper option that can be used for filing those forms.

Respondents: Businesses or other for-profit institutions.

Estimated Total Burden Hours: 17,540 hours.

OMB Number: 1545-1818.

Type of Review: Extension.

Title: Rev. Proc. 2003-38, Commercial Revitalization Deduction.

Description: Pursuant to Sec. 1400I of the Internal Revenue Code, this procedure provides the time and manner for states to make allocations of commercial revitalization expenditures to a new or substantially rehabilitated building that is placed in service in a renewal community.

Respondents: State, local, or tribal governments.

Estimated Total Burden Hours: 200 hours.

OMB Number: 1545-1833.

Type of Review: Extension.

Title: Qualified Zone Academy Bond Credit.

Form: 8860.

Description: A qualified zone academy bond is a taxable bond issued after 1997 by a state or local government, with the proceeds used to improve certain eligible public schools. In lieu of receiving interest payments from the issuer, an eligible holder of the bond is generally allowed an annual income tax credit. Eligible holders of qualified zone academy bonds use Form 8860 to figure and claim this credit.

Respondents: Business and other for-profit institutions.

Estimated Total Burden Hours: 204 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Robert Dahl,
Treasury PRA Clearance Officer.

[FR Doc. E6-14087 Filed 8-24-06; 8:45 am]

BILLING CODE 4830-01-P